DEPARTMENT OF HOMELAND SECURITY

Coast Guard

DEPARTMENT OF TRANSPORTATION

Maritime Administration

[USCG-2002-14134]

Port Pelican LLC Deepwater Port License Application

AGENCY: Coast Guard, DHS, and Maritime Administration, DOT.

ACTION: Notice of public hearing; request for comments.

SUMMARY: The U.S. Coast Guard (USCG) and the U.S. Maritime Administration (MARAD) will hold a public hearing to receive information relevant to the issuance or denial of the requisite federal license for the proposed Port Pelican LLC Deepwater Port project. The proposed Port Pelican LLC Deepwater Port would be located in the Gulf of Mexico, approximately 36 miles south southwest of Fresh Water City, Louisiana, in the Outer Continental Shelf (OCS) Lease Block Vermilion 140. We encourage interested individuals and organizations to attend the public hearing and submit comments. We also seek comments from anyone unable to attend the public hearing. In conjunction with the public hearing, the USCG and MARAD will also hold an informational open house regarding the proposed Port Pelican LLC Deepwater Port project.

DATES: The public hearing will be held on Monday, August 18, 2003, 3 p.m. to 6 p.m., in New Orleans, Louisiana. The informational open house will be held on Monday, August 18, 2003, 1 p.m. to 3 p.m., in New Orleans, Louisiana. The public hearing may be adjourned as early as 5 p.m. if there is no significant attendance or participation during the first two hours. The public hearing will continue beyond 6 p.m. if necessary to ensure all individuals present at that time who wish to comment have an opportunity to do so.

Comments intended for inclusion in the public docket [USCG-2002-14134] must reach the Docket Management Facility on or before October 2, 2003.

ADDRESSES: The public hearing and informational open house will be held at the following location: New Orleans Marriott, 555 Canal Street, New Orleans, LA 70130, (504) 581-1000.

You may submit comments identified by Coast Guard docket number USCG-2002-14134 to the Docket Management Facility at the U.S. Department of Transportation. To avoid duplication, please use only one of the following methods:

(1) Web site: http://dms.dot.gov.

(2) Mail: Docket Management Facility, U.S. Department of Transportation, 400 Seventh Street, SW., Washington, DC 20590-0001.

(3) Fax: (202) 493-2251.

(4) Delivery: Room PL-401 on the Plaza level of the Nassif Building, 400 Seventh Street, SW., Washington, DC, between 9 a.m. and 5 p.m., Monday through Friday, except Federal holidays. The telephone number is (202) 366-9329.

(5) Federal eRulemaking Portal: http://www.regulations.gov.

FOR FURTHER INFORMATION CONTACT: For further information concerning this notice, the Port Pelican LLC Deepwater Port license application, or the public hearing or informational open house, contact Commander Mark Prescott, U.S. Coast Guard at (202) 267-0225 or mprescott@comdt.uscg.mil. For questions on viewing or submitting material to the docket, call Ms. Dorothy Beard, Chief of Dockets, Department of Transportation, at (202) 366-5149.

SUPPLEMENTARY INFORMATION:

Public Participation and Request for Comments

Whether or not you attend the public hearing or informational open house, we encourage you to submit written comments and related materials. All comments received will be posted, without change, to http://dms.dot.gov and will include any personal information you have provided. We have an agreement with the Department of Transportation (DOT) to use the Docket Management Facility. Please see DOT's “Privacy Act” paragraph below.

Submitting comments: If you submit a comment, please include your name and address, identify the docket number (USCG-2002-14134), indicate your specific concern, and give the reason for each comment. You may submit your comments and material by electronic means, mail, fax, or delivery to the Docket Management Facility at the address under ADDRESSES; but please submit your comments and material by only one means. If you submit them by mail or delivery, submit them in an unbound format, no larger than 8½ by 11 inches, suitable for copying and electronic filing. If you submit them by mail and would like to know that they reached the Facility, please enclose a stamped, self-addressed postcard or envelope. We will consider all comments and material received during the comment period.

Viewing comments and documents: To view comments, as well as documents mentioned in this preamble as being available in the docket, go to http://dms.dot.gov at any time and conduct a simple search using the docket number USCG-2002-14134. You may also visit the Docket Management Facility in room PL-401 on the Plaza level of the Nassif Building, 400 Seventh Street, SW., Washington, DC, between 9 a.m. and 5 p.m., Monday through Friday, except Federal holidays.

Privacy Act: Anyone can search the electronic form of all comments received into any of our dockets by the name of the individual submitting the comment (or signing the comment, if submitted on behalf of an association, business, labor union, etc.). You may review the Department of Transportation's Privacy Act Statement in the Federal Register published on April 11, 2000 (65 FR 19477), or you may visit http://dms.dot.gov.

Public Hearing/Informational Open House

The Coast Guard and the Maritime Administration will hold a public hearing from 3 p.m. to 6 p.m. on Monday, August 18, 2003 at the New Orleans Marriott, 555 Canal Street, New Orleans, Louisiana. An informational open house will be held prior to the public meeting from 1 p.m. to 3 p.m. at the same location. We invite the public and representatives of interested agencies to attend and provide comments on the proposed license application. If you plan to attend the public hearing or informational open house and need special assistance, such as sign language interpretation or other reasonable accommodations, contact the U.S. Coast Guard as indicated in FOR FURTHER INFORMATION CONTACT.

Proposed Deepwater Port Background Information

The proposed Port Pelican LLC Deepwater Port would deliver natural gas to the United States Gulf Coast using existing gas supply and gathering systems in the Gulf of Mexico and southern Louisiana. Gas would then be delivered to shippers using the national pipeline grid through interconnections with major interstate and intrastate pipelines.

The project would consist of two concrete gravity based structure (GBS) units fixed to the seabed, which would include integral liquefied natural gas (LNG) storage tanks, support deck mounted LNG receiving and vaporization equipment and utilities, berthing accommodations for LNG carriers, facilities for delivery of natural gas to a pipeline transportation system, and personnel accommodations.

A 42-inch diameter offshore Pelican Interconnector Pipeline (PIPL), 37 nautical miles in length, would be constructed as part of the project. The PIPL would transport gas from the terminal to a point near the Tiger Shoal Platform “A” where it would connect to the Henry Hub. The Henry Hub would deliver the gas to the onshore U.S. gas pipeline network.

License Application Background Information

The Port Pelican LLC Deepwater Port license application was submitted to the Secretary of Transportation on November 25, 2002. The license application calls for construction of the Port Pelican Deepwater Port in an area situated in the Gulf of Mexico, approximately 36 miles south southwest of Fresh Water City, Louisiana, in OCS Lease Block Vermilion 140. Additional information concerning the contents of the application can be found online at http://dms.dot.gov under docket number USCG-2002-14134, or in the notice of application published in the Federal Register at 67 FR 79234 (Dec. 27, 2002). This public hearing is being held pursuant to 33 U.S.C. 1504(g) to receive information relevant to the issuance or denial of the requisite federal license for the proposed Port Pelican LLC Deepwater Port project.

Procedural

Any person who wishes may appear and speak or present evidence at this public hearing. Persons planning to speak at the hearing should contact the U.S. Coast Guard as indicated in FOR FURTHER INFORMATION CONTACT, any time prior to the hearing, indicating the approximate amount of time required. Written statements and exhibits may be submitted in place of or in addition to oral statements and will be made a part of the hearing record. Written statements and exhibits may be delivered before or during the hearing, or they may be submitted for up to 45 days following the date of the hearing to the Docket Management Facility listed under ADDRESSES.

Dated: July 14, 2003.
Joseph J. Angelo,
Director of Standards, Marine Safety, Security, and Environmental Protection, U.S. Coast Guard.
Raymond R. Barberisi,
Director, Office of Ports and Domestic Shipping, U.S. Maritime Administration.

[FR Doc. 03-18292 Filed 7-17-03; 8:45 am]

BILLING CODE 4910-81-P